DEPARTMENT OF ENERGY

Federal Energy Regulatory Commission

Combined Notice of Filings #1

Take notice that the Commission received the following exempt wholesale generator filings:

Docket Numbers: EG25-504-000.

Applicants: Montpelier Solar, LLC.

Description: Montpelier Solar, LLC submits Notice of Self-Certification of Exempt Wholesale Generator Status.

Filed Date: 8/25/25.

Accession Number: 20250825-5049.

Comment Date: 5 p.m. ET 9/15/25.

Docket Numbers: EG25-505-000.

Applicants: Outpost Solar LLC.

Description: Outpost Solar LLC submits Notice of Self-Certification of Exempt Wholesale Generator Status.

Filed Date: 8/25/25.

Accession Number: 20250825-5083.

Comment Date: 5 p.m. ET 9/15/25.

Docket Numbers: EG25-506-000.

Applicants: Frye Solar LLC.

Description: Frye Solar LLC submits Notice of Self-Certification of Exempt Wholesale Generator Status.

Filed Date: 8/25/25.

Accession Number: 20250825-5106.

Comment Date: 5 p.m. ET 9/15/25.

Docket Numbers: EG25-507-000.

Applicants: First State Generation, LLC.

Description: First State Generation, LLC submits Notice of Self-Certification of Exempt Wholesale Generator Status.

Filed Date: 8/25/25.

Accession Number: 20250825-5148.

Comment Date: 5 p.m. ET 9/15/25.

Take notice that the Commission received the following electric rate filings:

Docket Numbers: ER14-1400-004.

Applicants: Seneca Generation, LLC.

Description: Compliance filing: Informational Filing Regarding Upstream Transfer of Ownership to be effective N/A.

Filed Date: 8/22/25.

Accession Number: 20250822-5194.

Comment Date: 5 p.m. ET 9/12/25.

Docket Numbers: ER18-1738-002.

Applicants: Bath County Energy, LLC.

Description: Compliance filing: Informational Filing Regarding Upstream Transfer of Ownership to be effective N/A.

Filed Date: 8/22/25.

Accession Number: 20250822-5188.

Comment Date: 5 p.m. ET 9/12/25.

Docket Numbers: ER20-1424-005.

Applicants: Yards Creek Energy, LLC.

Description: Compliance filing: Yards Creek Energy, LLC submits tariff filing per 35: Informational Filing Regarding Upstream Transfer of Ownership to be effective N/A.

Filed Date: 8/22/25.

Accession Number: 20250822-5195.

Comment Date: 5 p.m. ET 9/12/25.

Docket Numbers: ER20-1776-005.

Applicants: Yards Creek Energy, LLC.

Description: Compliance filing: Informational Filing Regarding Upstream Transfer of Ownership to be effective N/A.

Filed Date: 8/22/25.

Accession Number: 20250822-5197.

Comment Date: 5 p.m. ET 9/12/25.

Docket Numbers: ER24-2026-001.

Applicants: Southwest Power Pool, Inc.

Description: Compliance filing: Second Order No. 2023 Compliance Filing to be effective 6/26/2025.

Filed Date: 8/25/25.

Accession Number: 20250825-5099.

Comment Date: 5 p.m. ET 9/15/25.

Docket Numbers: ER25-2852-001.

Applicants: Edgecom Energy USA, Inc.

Description: Tariff Amendment: Edgecom Energy USA, Inc. submits tariff filing per 35.17(b): Edgecom Energy USA, Inc. Market-Based Rate Tariff Filing to be effective 11/1/2025.

Filed Date: 8/25/25.

Accession Number: 20250825-5093.

Comment Date: 5 p.m. ET 9/15/25.

Docket Numbers: ER25-3266-000.

Applicants: SAGE Development Authority.

Description: Request for Prospective Tariff Waiver, et al. of SAGE Development Authority.

Filed Date: 8/22/25.

Accession Number: 20250822-5107.

Comment Date: 5 p.m. ET 9/5/25.

Docket Numbers: ER25-3270-000.

Applicants: Corby Energy Storage, LLC.

Description: § 205(d) Rate Filing: Corby Energy Storage MBR Application to be effective 10/27/2025.

Filed Date: 8/22/25.

Accession Number: 20250822-5181.

Comment Date: 5 p.m. ET 9/12/25.

Docket Numbers: ER25-3271-000.

Applicants: Desert Sands Energy Storage I, LLC.

Description: § 205(d) Rate Filing: Desert Sands Energy Storage I MBR Application to be effective 10/27/2025.

Filed Date: 8/22/25.

Accession Number: 20250822-5189.

Comment Date: 5 p.m. ET 9/12/25.

Docket Numbers: ER25-3272-000.

Applicants: Desert Sands Energy Storage II, LLC.

Description: § 205(d) Rate Filing: Desert Sands Energy Storage II MBR Application to be effective 10/27/2025.

Filed Date: 8/22/25.

Accession Number: 20250822-5191.

Comment Date: 5 p.m. ET 9/12/25.

Docket Numbers: ER25-3273-000.

Applicants: Desert Sands Energy Center, LLC.

Description: § 205(d) Rate Filing: Desert Sands Energy Center MBR Application to be effective 10/27/2025.

Filed Date: 8/22/25.

Accession Number: 20250822-5196.

Comment Date: 5 p.m. ET 9/12/25.

Docket Numbers: ER25-3274-000.

Applicants: Grace Orchard Solar III, LLC.

Description: § 205(d) Rate Filing: Grace Orchard Solar III MBR Application to be effective 10/27/2025.

Filed Date: 8/22/25.

Accession Number: 20250822-5200.

Comment Date: 5 p.m. ET 9/12/25.

Docket Numbers: ER25-3275-000.

Applicants: Grace Orchard Solar Interconnection, LLC.

Description: § 205(d) Rate Filing: Grace Orchard Solar Interconnection MBR Application to be effective 10/27/2025.

Filed Date: 8/22/25.

Accession Number: 20250822-5202.

Comment Date: 5 p.m. ET 9/12/25.

Docket Numbers: ER25-3276-000.

Applicants: Roadhouse Energy Storage, LLC.

Description: § 205(d) Rate Filing: Roadhouse Energy Storage MBR Application to be effective 10/27/2025.

Filed Date: 8/22/25.

Accession Number: 20250822-5204.

Comment Date: 5 p.m. ET 9/12/25.

Docket Numbers: ER25-3277-000.

Applicants: Yellow Pine Solar III, LLC.

Description: § 205(d) Rate Filing: Yellow Pine Solar III MBR Application to be effective 10/27/2025.

Filed Date: 8/22/25.

Accession Number: 20250822-5205.

Comment Date: 5 p.m. ET 9/12/25.

Docket Numbers: ER25-3278-000.

Applicants: Yellow Pine Solar Interconnect II, LLC.

Description: § 205(d) Rate Filing: Yellow Pine Solar Interconnect II MBR Application to be effective 10/27/2025.

Filed Date: 8/25/25.

Accession Number: 20250825-5000.

Comment Date: 5 p.m. ET 9/15/25.

Docket Numbers: ER25-3280-000.

Applicants: American Transmission Systems, Incorporated.

Description: § 205(d) Rate Filing: ATSI submits an Amended IA—SA No. 3992 to be effective 10/25/2025.

Filed Date: 8/25/25.

Accession Number: 20250825-5051.

Comment Date: 5 p.m. ET 9/15/25.

Docket Numbers: ER25-3281-000.

Applicants: Consolidated Edison Company of New York, Inc.

Description: § 205(d) Rate Filing: 100 RY 1 Revised RDM for SC 1 to be effective 8/25/2025.

Filed Date: 8/25/25.

Accession Number: 20250825-5059.

Comment Date: 5 p.m. ET 9/15/25.

Docket Numbers: ER25-3282-000.

Applicants: Southwest Power Pool, Inc.

Description: § 205(d) Rate Filing: Revisions to Clarify Language Regarding the TCR Process to be effective 10/25/2025.

Filed Date: 8/25/25.

Accession Number: 20250825-5072.

Comment Date: 5 p.m. ET 9/15/25.

Docket Numbers: ER25-3283-000.

Applicants: Bath County Energy, LLC, Seneca Generation, LLC, Yards Creek Energy, LLC.

Description: Request for Limited Waiver of the 90-day prior notice requirement set forth in Schedule 2 to the PJM OATT of REV Reactive Companies.

Filed Date: 8/22/25.

Accession Number: 20250822-5216.

Comment Date: 5 p.m. ET 9/12/25.

Docket Numbers: ER25-3284-000.

Applicants: First State Generation, LLC.

Description: Initial Rate Filing: Market-Based Rate Application and Request for Waivers and Blanket Approvals to be effective 10/25/2025.

Filed Date: 8/25/25.

Accession Number: 20250825-5113.

Comment Date: 5 p.m. ET 9/15/25.

Docket Numbers: ER25-3285-000.

Applicants: AEP Ohio Transmission Company, Inc.

Description: § 205(d) Rate Filing: AOHTCo-Great Bend Solar (Granny Run 69) Interim Maintenance Services Agreement to be effective 8/4/2025.

Filed Date: 8/25/25.

Accession Number: 20250825-5134.

Comment Date: 5 p.m. ET 9/15/25.

Docket Numbers: ER25-3286-000.

Applicants: PJM Interconnection, L.L.C.

Description: § 205(d) Rate Filing: Amendment to WMPA, Service Agreement No. 2839; Queue No. W1-121 to be effective 10/25/2025.

Filed Date: 8/25/25.

Accession Number: 20250825-5156.

Comment Date: 5 p.m. ET 9/15/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Dated: August 25, 2025.
Carlos D. Clay,
Deputy Secretary.

[FR Doc. 2025-16487 Filed 8-27-25; 8:45 am]

BILLING CODE 6717-01-P